DEPARTMENT OF THE INTERIOR

National Park Service

Notice of Inventory Completion: U.S. Department of Defense, Air Force, Vandenberg Air Force Base, CA and University of California, Santa Barbara, Repository of Archaeological and Ethnographic Collections, Santa Barbara, CA

AGENCY: National Park Service, Interior.

ACTION: Notice.

Notice is here given in accordance with the Native American Graves Protection and Repatriation Act (NAGPRA), 25 U.S.C. 3003, of the completion of an inventory of human remains and an associated funerary object in the control of the U.S. Department of Defense, Air Force, Vandenberg Air Force Base, CA, and in the physical custody of the University of California, Santa Barbara, Repository for Archaeological and Ethnographic Collections, Santa Barbara, CA. The human remains and associated funerary object were removed from the Vandenberg Air Force Base, Santa Barbara County, CA.

This notice is published as part of the National Park Service's administrative responsibilities under NAGPRA, 25 U.S.C. 3003 (d)(3). The determinations in this notice are the sole responsibility of the museum, institution, or Federal agency that has control of the Native American human remains and associated funerary object. The National Park Service is not responsible for the determinations in this notice.

A detailed assessment of the human remains was made for the Vandenberg Air Force Base through a contracting Physical Anthropologist with the Department of Anthropology, University of California, Santa Barbara, and in consultation with representatives of the Santa Ynez Chumash Mission Indians of the Santa Ynez Reservation, California.

In the early 1970s, human remains representing a minimum of one individual were collected from the surface of CA-SBA-209, located near Point Arguello on Vandenberg Air Force Base, Santa Barbara County, CA, by L. Spanne, as part of Air Force commissioned archeological reconnaissance work. No known individual was identified. No associated funerary objects are present.

A single radiocarbon date (7890 BP) from site CA-SBA-209, dates the human remains to within the Early Period.

In the 1970s, human remains representing a minimum of three individuals were collected from the surface of CA-SBA-734, located in the Casmalia Hills in the northern part of Vandenberg Air Force Base, Santa Barbara County, CA, by L. Spanne and crew, during Air Force commissioned work. No known individuals were identified. No associated funerary objects are present.

Based on the excavated artifacts from the site, but that are not associated funerary objects, CA-SBA-734 has been dated to the Middle Period (A.D. 700-900).

In 1974, human remains representing a minimum of one individual were excavated from CA-SBA-210, located on the south side of Point Arguello on Vandenberg Air Force Base, Santa Barbara County, CA, by M. Glassow, University of California, Santa Barbara, under contract to the Air Force. No primary burials were identified in the field; instead the human remains were identified during the examination of faunal material in the laboratory. No known individual was identified. No associated funerary objects are present.

Although site CA-SBA-210 was occupied during all major time periods, the presence of glass trade beads indicates its occupation after European contact (post-A.D. 1500).

Between 1969-1973, human remains representing a minimum of one individual were collected from the surface of CA-SBA-210, located on the south side of Point Arguello on Vandenberg Air Force Base, Santa Barbara County, CA, by L. Spanne, as part of Air Force commissioned archeological reconnaissance work. No known individual was identified. No associated funerary objects are present.

Artifactual evidence indicates that site CA-SBA-210 was occupied throughout Santa Barbara prehistory and into the Mission Period. The age of the human remains is not clear.

In 1974, human remains representing a minimum of two individuals were excavated from CA-SBA-539, located on the south side of Honda Canyon on Vandenberg Air Force Base, Santa Barbara County, CA, by M. Glassow, University of California, Santa Barbara, under contract with the Air Force. No discrete burials were identified in the field; instead the human remains were identified during the examination of faunal materials in the laboratory. No known individuals were identified. No associated funerary objects are present.

Radiocarbon dates from site CA-SBA-539 indicate a Middle Period occupation from 930-560 B.C.

In 1974, human remains representing a minimum of one individual were excavated from CA-SBA-551, located just north of Point Arguello on Vandenberg Air Force Base, Santa Barbara County, CA, by M. Glassow, University of California, Santa Barbara, under contract with the Air Force. No discrete burials were identified in the field; instead the human remains were identified during the examination of faunal material in the laboratory. No known individual was identified. No associated funerary objects are present.

Radiocarbon dates from site CA-SBA-551 indicate a date of occupation from 250 B.C.-A.D. 1260 (Middle to Late Periods).

In 1974, human remains representing a minimum of one individual were excavated from CA-SBA-552, located on the east bank of Agua Vina Creek on Vandenberg Air Force Base, Santa Barbara County, CA, by M. Glassow, University of California, Santa Barbara, under contract with the Air Force. No discrete burials were identified in the field; instead human remains were identified during the examination of faunal materials in the laboratory. No known individual was identified. No associated funerary objects are present.

Radiocarbon dates for site CA-SBA-552 suggest an early date of 5600-5150 B.C.

In 1974, human remains representing a minimum of one individual were excavated from CA-SBA-931, located near the coast northeast of Surf Railroad Station on Vandenberg Air Force Base, Santa Barbara County, CA, by M. Glassow, University of California, Santa Barbara, under contract with the Air Force. No discrete burials were identified in the field; instead human remains were identified during the examination of faunal material in the laboratory. No known individual was identified. No associated funerary objects are present.

Radiocarbon dates from site CA-SBA-931 indicate the presence of two temporally distinct occupations (8860-9220 BP and 2460-2300 BP).

In 1987, human remains representing a minimum of two individuals were removed from CA-SBA-225, located on Vandenberg Air Force Base, Santa Barbara County, CA. No known individuals were identified. The one associated funerary object is an Olivella shell bead.

In December 2006, Vandenberg Air Force professional staff conducted an inspection of its archeological collection that is curated at the Repository for Archaeological and Ethnographic Collections, University of California, Santa Barbara. The human remains described in this notice were removed from archeological sites located on Vandenberg Air Force Base during excavations and recoveries conducted between 1969 and 1987. In 2007, Vandenberg Air Force contracted with a Physical Anthropologist from the University of California, Santa Barbara to conduct osteological tests and inventory human remains at the Repository. Tests proved that the human remains were Native American. In 2008, the associated funerary object described in this notice was identified. Additional Native American human remains and associated funerary objects removed from Vandenberg Air Force Base between 1991 and 1994, and curated at the Repository have been described in a Notice of Intended Disposition published in 2008.

Consultation evidence from representatives of the Santa Ynez Chumash Mission Indians of the Santa Ynez Reservation, California, supports the determination of the human remains as Native American, and that the removals were from sites that are known Chumash cultural sites predating contact with the Spanish. Also consistent with pre-contact Chumash burials are the associated funerary object described in this notice, and the others removed during the 1991-1994 excavations. Based on archeological, osteological, and consultation evidence, officials at Vandenberg Air Force Base have reasonably determined the human remains to have a shared group relationship with the Santa Ynez Chumash Mission Indians of the Santa Ynez Reservation, California.

Officials at Vandenberg Air Force Base have determined that, pursuant to 25 U.S.C. 3001 (9-10), the human remains described above represent the physical remains of 13 individuals of Native American ancestry. Officials at Vandenberg Air Force Base also have determined that, pursuant to 25 U.S.C. 3001 (3)(A), the one object described above is reasonably believed to have been placed with or near individual human remains at the time of death or later as part of the death rite or ceremony. Lastly, officials at Vandenberg Air Force Base have determined that, pursuant to 25 U.S.C. 3001 (2), there is a relationship of shared group identity that can be reasonably traced between the Native American human remains and the associated funerary object and the Santa Ynez Chumash Mission Indians of the Santa Ynez Reservation, California.

Representatives of any other Indian tribe that believes itself to be culturally affiliated with the human remains and associated funerary object should contact Beth McWaters-Bjorkman, 30 CES/CEVNC, 1028 Iceland Ave., Vandenberg Air Force Base, CA 93437-6010, telephone (805) 606-0533, before March 4, 2009. Repatriation of the human remains and associated funerary object to the Santa Ynez Chumash Mission Indians of the Santa Ynez Reservation, California may proceed after that date if no additional claimants come forward.

The Vandenberg Air Force Base is responsible for notifying the Santa Ynez Chumash Mission Indians of the Santa Ynez Reservation, California that this notice has been published.

Dated: December 31, 2008
Sherry Hutt,
Manager, National NAGPRA Program.

[FR Doc. E9-2117 Filed 1-30-09; 8:45 am]

BILLING CODE 4312-50-S